TENNESSEE VALLEY AUTHORITY

Sunshine Act Meetings

TIME AND DATE: 9:00 a.m. CT on May 8, 2025.

PLACE: Putnam County Convention Center, Cookeville, Tennessee.

STATUS: Open.

MATTERS TO BE CONSIDERED:

Meeting No. 25-02

The TVA Board of Directors will hold a public meeting on May 8 at the Putnam County Convention Center, 6000 Tennessee Avenue, Cookeville, Tennessee. The meeting will be called to order at 9:00 a.m. CT to consider the agenda items listed below.

On May 7, at the Putnam Country Convention Center, the public may comment on any agenda item or subject at a Board-hosted public listening session which begins at 2:00 p.m. CT and will last until 4:00 p.m. Preregistration is required to address the Board.

Agenda

1. Approval of Minutes of the February 13, 2025 Board Meeting

2. Report of the Finance, Rates, and Portfolio Committee

3. Report of the Audit, Risk, and Cybersecurity Committee

4. Report of the People and Governance Committee

5. Report of the External Stakeholders and Regulation Committee

6. Report of the Operations and Nuclear Oversight Committee

7. Information Items

A. Retention of Executive Search Firm—Solely Related to Internal Personnel Practices

B. CEO Selection Approval

8. Report From President and CEO

CONTACT PERSON FOR MORE INFORMATION: For more information: Please contact Melissa Greene, TVA Media Relations at (865) 632-6000, Knoxville, Tennessee. Anyone who wishes to comment on any of the agenda in writing may send their comments to: TVA Board of Directors, Board Agenda Comments, 400 West Summit Hill Drive, Knoxville, Tennessee 37902.

Dated: May 1, 2025.
Edward C. Meade,
Agency Liaison.

[FR Doc. 2025-08110 Filed 5-5-25; 4:15 pm]

BILLING CODE 8120-08-P